DEPARTMENT OF THE TREASURY

United States Mint

Request for Citizens Coinage Advisory Committee Membership Applications

SUMMARY: Pursuant to United States Code, Title 31, section 5135(b), the United States Mint is accepting applications for membership to the Citizens Coinage Advisory Committee (CCAC) for a new member representing the interests of the general public in the coinage of the United States. The CCAC was established to:

• Advise the Secretary of the Treasury on any theme or design proposals relating to circulating coinage, bullion coinage, Congressional Gold Medals, and national and other medals produced by the United States Mint.

• Advise the Secretary of the Treasury with regard to the events, persons, or places that the CCAC recommends to be commemorated by the issuance of commemorative coins in each of the five calendar years succeeding the year in which a commemorative coin designation is made.

• Make recommendations with respect to the mintage level for any commemorative coin recommended.

Total membership consists of 11 voting members appointed by the Secretary of the Treasury:

• One person specially qualified by virtue of his or her education, training or experience as nationally or internationally recognized curator in the United States of a numismatic collection;

• One person specially qualified by virtue of his or her experience in the medallic arts or sculpture;

• One person specially qualified by virtue of his or her education, training, or experience in American history;

• One person specially qualified by virtue of his or her education, training, or experience in numismatics;

• Three persons who can represent the interests of the general public in the coinage of the United States; and

• Four persons appointed by the Secretary of the Treasury on the basis of the recommendations by the U.S. House and Senate leadership.

Members are appointed for a term of four years. No individual may be appointed to the CCAC while serving as an officer or employee of the Federal Government.

The CCAC is subject to the direction of the Secretary of the Treasury. Meetings of the CCAC are open to the public and are held approximately six to eight times per year. The United States Mint is responsible for providing the necessary support, technical services and advice to the CCAC. CCAC members are not paid for their time or services, but, consistent with Federal Travel Regulations, members are reimbursed for their travel and lodging expenses to attend meetings. Members are Special Government Employees and are subject to the Standards of Ethical Conduct for Employees of the Executive Branch (5 CFR part 2653).

The United States Mint will review all submissions and will forward its recommendations to the Secretary of the Treasury for appointment consideration. Candidates should include specific skills, abilities, talents, and credentials to support their applications. The United States Mint is also interested in candidates who have demonstrated leadership skills, have received recognition by their peers in their field of interest, have a record of participation in public service or activities, and are willing to commit the time and effort to participate in the CCAC meetings and related activities.

Application Deadline: September 15, 2011.

Receipt of Applications: Any member of the public wishing to be considered for participation on the CCAC should submit a resume and cover letter describing qualifications for membership, by fax to 202-756-6830, or by mail to the United States Mint, 801 9th Street, NW., Washington, DC 20001, Attn: Andrew Fishburn. Submissions must specify which position the candidate wishes to be considered for, and must be postmarked no later than September 15, 2011.

Notice Concerning Delivery of First-Class and Priority Mail

The delivery of first-class mail to the United States Mint has been delayed since mid-October 2001, and delays are expected to continue. Until normal mail service resumes, please consider using alternate delivery services when sending time-sensitive material.

Some or all of the first-class and priority mail we receive may be put through an irradiation process to protect against biological contamination. Support materials put through this process may suffer irreversible damage. We encourage you to consider using alternate delivery services.

FOR FURTHER INFORMATION CONTACT: Andrew Fishburn, United States Mint Liaison to the CCAC; 801 Ninth Street, NW.; Washington, DC 20220; or call 202-354-6700.

Dated: August 4, 2011.
Richard A. Peterson,
Acting Director, United States Mint.

[FR Doc. 2011-20471 Filed 8-11-11; 8:45 am]

BILLING CODE 4810-02-P